DEPARTMENT OF HEALTH AND HUMAN SERVICES

Centers for Disease Control and Prevention

[Program Announcement 04055]

Efficacy Trials of Parenting Programs for Fathers; Notice of Availability of Funds—Amendment

A notice announcing the availability of fiscal year (FY) 2004 funds for a cooperative agreement program to examine the efficacy of parenting programs for high-risk fathers, expectant fathers, or father surrogates of children age birth to two and/or age three to five for the prevention of child maltreatment and the promotion of positive parenting behaviors was published in the Federal Register on December 17, 2003, vol. 68, no. 242, pages 70273-70278.

The notice is amended as follows: On page 70274, column 3, lines 61-65, delete the section entitled “1. Abstract.” The Abstract is already included on page two of the PHS 398 application form in the section called “Description.” On page 70275, column 2, lines 8-15, delete the section entitled “9. Project Budget.”

The project budget information is already included on page 4 of the PHS 398 application form.

Dated: February 23, 2004.
Sandra R. Manning,
Director, Procurement and Grants Office, Centers for Disease Control and Prevention.

[FR Doc. 04-4350 Filed 2-26-04; 8:45 am]

BILLING CODE 4163-18-P